DEPARTMENT OF THE INTERIOR

Bureau of Land Management

[LL WO31000.L13100000.PB0000.15X]

Renewal of Approved Information Collection

AGENCY: Bureau of Land Management, Interior.

ACTION: 30-day notice and request for comments.

SUMMARY: The Bureau of Land Management (BLM) has submitted an information collection request to the Office of Management and Budget (OMB) to continue the collection of information from respondents who provide certain information in order to conduct onshore oil and gas geophysical exploration on lands managed by the BLM or the U.S. Forest Service. The Office of Management and Budget (OMB) previously approved this information collection activity, and assigned it control number 1004-0162.

DATES: The OMB is required to respond to this information collection request within 60 days but may respond after 30 days. For maximum consideration, written comments should be received on or before August 5, 2015.

ADDRESSES: Please submit comments directly to the Desk Officer for the Department of the Interior (OMB #1004-0162), Office of Management and Budget, Office of Information and Regulatory Affairs, fax 202-395-5806, or by electronic mail at OIRA_submission@omb.eop.gov.

Please provide a copy of your comments to the BLM. You may do so via mail, fax, or electronic mail.

Mail: U.S. Department of the Interior, Bureau of Land Management, 1849 C Street, NW., Room 2134LM, Attention: Jean Sonneman, Washington, DC 20240.

Fax: to Jean Sonneman at 202-245-0050.

Electronic mail: Jean_Sonneman@blm.gov.

Please indicate “Attn: 1004-0162” regardless of the form of your comments.

FOR FURTHER INFORMATION CONTACT: Jennifer Spencer, at 202-912-7146. Persons who use a telecommunication device for the deaf may call the Federal Information Relay Service at 1-800-877-8339, to leave a message for Ms. Spencer. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on December 24, 2014 (79 FR 77523), and the comment period ended February 23, 2015. The BLM received one comment in response to the notice, from DJ Environmental, Inc.

The commenter expressed confusion owing to the lack of a specific proposal in the notice, and asked if the notice is a simple matter of continuing a geophysical Notice of Intent as currently written. The BLM responded to the commenter via email, explaining that the notice pertains to a collection of information defined in the PRA, the BLM is planning to seek renewal of control number 1004-0162, and the notice is the first step in the renewal process. The collection of information was not modified in response to this comment.

During the approval period, the BLM consulted with several respondents via email, to solicit comments on the burden hours and cost estimates, availability of data, frequency of collection, and clarity of instructions. Two respondents provided feedback.

One respondent suggested limiting the scope of what is reported on item 5, page 1 of the Notice of Completion form, to places where surface disturbance has not been reclaimed and to show those areas on a U.S. Geological Survey topographic map. At present, that item reads, “Describe any surface disturbance and how you reclaimed it.” In response to the respondent's comment, the BLM decided to change this item to “Describe any surface disturbance, its location, and how you reclaimed it.” The BLM needs this description in order to locate all disturbed areas and ensure that reclamation is completed adequately.

Both respondents addressed items on the Notice of Intent form. One respondent requested better guidance on what is needed for “Describe the survey type” and better definition for “Describe the survey method.” The other respondent suggested changing “Describe the survey type” to seismic type, and the “Describe the survey method” to seismic method. This respondent also suggested that item 1 include geographic information system (GIS) shape files, and that item 4 should ask when the starting date will be for the casual use survey, as well as for exploration.

Item 1 of the Notice of Intent form already requires submission of GIS data in a format that is useful for the BLM and will not be modified to include GIS shape files. However, item 1 will be changed to “A separate Plan of Operations is attached addressing items 1-5 below, in order to improve the clarity of the instruction.” The BLM will leave item 4 the same since it is common for the casual use surveys to be started and completed as soon as possible. The BLM's main concern is when the equipment will be on location. Regarding the survey type and method, the BLM will not make the requested change. Seismic is a type of survey or method, in addition to other types of surveys or methods used, for example, electromagnetic.

The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0162 in your correspondence. Before including your address, phone number, email address, or other personal identifying information in your comment, you should be aware that your entire comment—including your personal identifying information—may be made publicly available at any time. While you can ask us in your comment to withhold your personal identifying information from public review, we cannot guarantee that we will be able to do so.

The following information pertains to this request:

Title: Onshore Oil and Gas Geophysical Exploration (43 CFR Part 3150 and 36 CFR Parts 228 and 251).

Forms: BLM Form 3150-4/FS Form 2800-16, Notice of Intent and Authorization to Conduct Oil and Gas Geophysical Exploration Operations; and

BLM Form 3150-5/FS Form 2800-16a, Notice of Completion of Oil and Gas Geophysical Exploration Operations.

OMB Control Number: 1004-0162.

Abstract: Respondents supply information that enables the BLM and the U.S. Forest Service (FS) to ensure that geophysical exploration is conducted in a manner consistent with applicable statutes, regulations, land use plans, and environmental documents.

Frequency: On occasion.

Description of Respondents: 100 entities undertaking oil and gas geophysical exploration, i.e., activity relating to the search for evidence of oil and gas on lands managed by the BLM and the FS.

Estimated Number of Responses Annually: 100.

Estimated Reporting and Recordkeeping “Hour” Burden Annually: 65.

Estimated Reporting and Recordkeeping “Non-Hour Cost” Burden Annually: $25.

The following table details the individual components and respective hour burdens of this information collection request:

A. | B. | C. | D.
Type of response | Number of responses | Time per response | Total hours (Column B × Column C)
Notice of Intent and Request to Conduct Geophysical Exploration Operations/Outside Alaska. 43 CFR 3151.1 BLM Form 3150-4/FS Form 2800-16 | 45 (20 to BLM and 25 to FS) | 1 hour | 45
Notice of Intent and Request to Conduct Geophysical Exploration Operations/Alaska 43 CFR 3152.1, 3152.3, 3152.4, and 3152.5 BLM Form 3150-4 | 1 | 1 hour | 1
Notice of Completion of Geophysical Exploration Operations 43 CFR 3151.2 and 3152.7 BLM Form 3150-5/FS Form 2800-16a | 53 (28 to BLM and 25 to FS) | 20 minutes | 18
Data and Information Obtained in Carrying Out Exploration Plan (Alaska only) 43 CFR 3152.6 | 1 | 1 hour | 1
Totals | 100 |  | 65

Jean Sonneman,
Information Collection Clearance Officer, Bureau of Land Management.

[FR Doc. 2015-16440 Filed 7-2-15; 8:45 am]

BILLING CODE 4310-84-P